COMMITTEE FOR PURCHASE FROM PEOPLE WHO ARE BLIND OR SEVERELY DISABLED

Procurement List; Proposed Additions and Deletions

AGENCY: Committee for Purchase From People Who Are Blind or Severely Disabled.

ACTION: Proposed Additions to and Deletions from the Procurement List.

SUMMARY: The Committee is proposing to add products to the Procurement List that will be furnished by nonprofit agencies employing persons who are blind or have other severe disabilities and to delete services previously provided by such agencies.

Comments Must Be Received on or Before: 1/10/2011.

ADDRESSES: Committee for Purchase From People Who Are Blind or Severely Disabled, Jefferson Plaza 2, Suite 10800, 1421 Jefferson Davis Highway, Arlington, Virginia 22202-3259.

For Further Information or to Submit Comments Contact: Barry S. Lineback, Telephone: (703) 603-7740, Fax: (703) 603-0655, or e-mail CMTEFedReg@AbilityOne.gov.

SUPPLEMENTARY INFORMATION: This notice is published pursuant to 41 U.S.C 47(a)(2) and 41 CFR 51-2.3. Its purpose is to provide interested persons an opportunity to submit comments on the proposed actions.

Additions

If the Committee approves the proposed additions, the entities of the Federal Government identified in this notice will be required to procure the products listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products to the Government.

2. If approved, the action will result in authorizing small entities to furnish the products to the Government.

3. There are no known regulatory alternatives which would accomplish the objectives of the Javits-Wagner-O'Day Act (41 U.S.C. 46-48c) in connection with the products proposed for addition to the Procurement List.

Comments on this certification are invited. Commenters should identify the statement(s) underlying the certification on which they are providing additional information.

End of Certification

The following products are proposed for addition to Procurement List for production by the nonprofit agencies listed:

Products

Strap Webbing

NSN: 5340-01-043-5409.

NSN: 5340-01-043-8475.

NPA: Mississippi Industries for the Blind, Jackson, MS.

Contracting Activity: Defense Logistics Agency Troop Support, Philadelphia, PA.

Coverage: C-List for 100% of the requirement of the Department of Defense, as aggregated by the Defense Logistics Agency Troop Support, Philadelphia, PA.

Wind Jacket—Layer IV, ECWCS Gen III, Universal Camouflage

NSN: 8415-01-546-8657—Size X-Small-Short.

NSN: 8415-01-546-8667—Size X-Small-Regular.

NSN: 8415-01-546-8745—Size Small-Short.

NSN: 8415-01-538-6057—Size Small-Regular.

NSN: 8415-01-546-8758—Size Small-Long.

NSN: 8415-01-538-6067—Size Medium-Regular.

NSN: 8415-01-546-8809—Size Medium-Long.

NSN: 8415-01-538-6074—Size Large-Regular.

NSN: 8415-01-538-6080—Size Large-Long.

NSN: 8415-01-538-6681—Size X-Large-Regular.

NSN: 8415-01-546-8828—Size XX-Large-Regular.

NSN: 8415-01-546-8829—Size XX-Large-Long.

NSN: 8415-01-546-8834—Size XX-Large-XLong.

NPA: Blind Industries & Services of Maryland, Baltimore, MD.

Contracting Activity: Defense Logistics Agency Troop Support, Philadelphia, PA.

Coverage: C-List for 50% of the requirement of the Department of Defense, as aggregated by the Defense Logistics Agency Troop Support, Philadelphia, PA.

Deletions

Regulatory Flexibility Act Certification

I certify that the following action will not have a significant impact on a substantial number of small entities. The major factors considered for this certification were:

1. If approved, the action will not result in additional reporting, recordkeeping or other compliance requirements for small entities.

2. If approved, the action may result in authorizing small entities to provide the services to the Government.

3. There are no known regulatory alternatives which would accomplish the objectives of the Javits-Wagner-O'Day Act (41 U.S.C. 46-48c) in connection with the services proposed for deletion from the Procurement List.

End of Certification

The following services are proposed for deletion from the Procurement List:

Services

Service Type/Location: Audio/Visual Duplication Service. Federal Emergency Management Agency: National Emergency Training Center, 16825 South Seton Avenue, Emmitsburg, MD.

NPA: ForSight Vision, York, PA

Contracting Activity: Federal Emergency Management Agency, NETC Acquisition Section, Washington, DC.

Service Type/Location: Custodial Service. Mauna Loa Observatory: Hilo Office, 1437 Kilauea Ave., #102, Hilo, HI.

NPA: The ARC of Hilo, Hilo, HI.

Contracting Activity: Department of Commerce, Washington, DC.

Barry S. Lineback,
Director, Business Operations.

[FR Doc. 2010-31073 Filed 12-9-10; 8:45 am]

BILLING CODE 6353-01-P